DEPARTMENT OF COMMERCE

National Oceanic and Atmospheric Administration

Proposed Information Collection; Comment Request; Vessel Monitoring System for Atlantic Highly Migratory Species

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 5, 2009.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Peter Cooper, Highly Migratory Species Management Division (F/SF1), Office of Sustainable Fisheries, National Marine Fisheries Service, 1315 East-West Highway, Silver Spring, MD 20910 (phone 301-713-2347).

SUPPLEMENTARY INFORMATION:

I. Abstract

According to regulations under 50 CFR 635.69, the installation of a National Marine Fisheries Service (NMFS)-approved vessel monitoring systems (VMS) is required on: (1) All vessels issued Atlantic Highly Migratory Species (HMS) limited access permits (LAP) with pelagic longline gear on board; (2) all commercial vessels issued a directed shark LAP with bottom longline gear on board that are located between 33°00′ and 36°30′ N latitudes between January 1 and July 31; and (3) all commercial vessels issued a directed shark LAP with gillnet gear on board during the right whale calving season (November 15-March 31), regardless of location. NMFS published the list of approved VMS units for bottom longline or gillnet vessels on April 15, 2004 (69 FR 19979). This list updated the types of available units for pelagic longline vessels.

VMS is required in these fisheries to aid in enforcement and protection of closed areas. The areas were closed to reduce bycatch in HMS fisheries, to aid in rebuilding overfished stocks, and to protect protected species such as North Atlantic right whales. Automatic position reports are required to be submitted on an hourly basis whenever the vessel is at-sea. The placement of VMS units on fishing vessels allows NMFS to determine vessel locations and complements the Agency's efforts to monitor and enforce compliance with applicable regulations, including time/area closures. Vessel operators who are purchasing and installing a VMS unit for the first time are required to follow an equipment installation checklist and submit it to NMFS. The checklist provides information on the hardware and communications service selected by each vessel. NMFS uses the returned checklists to ensure that position reports are received and to aid NMFS in troubleshooting problems.

II. Method of Collection

Equipment installation checklists are submitted in paper form. Position reports are automatically sent electronically by the VMS units.

III. Data

OMB Control Number: 0648-0372.

Form Number: None.

Type of Review: Regular submission.

Affected Public: Business or other for-profit organizations.

Estimated Number of Respondents: 297.

Estimated Time per Response: 4 hours for installation, 2 hours for annual maintenance of the equipment, and 5 minutes to complete and return a one-time installation checklist.

Estimated Total Annual Burden Hours: 604.

Estimated Total Annual Cost to Public: $11,002 in start-up costs ($2,200 for a new unit, $0.42 for the equipment installation checklist), annualized to $3,667); $251,706 in operation and maintenance costs (based on the current 292 vessels plus 5 possible new vessels: VMS maintenance ($500/year, and automatic position reports ($1.00/day). Total: $255,373.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 3, 2008.
Gwellnar Banks,
Management Analyst, Office of the Chief Information Officer.

[FR Doc. E8-26490 Filed 11-5-08; 8:45 am]

BILLING CODE 3510-22-P